DEPARTMENT OF STATE

Office of Visa Services

[Public Notice 3631]

Proposed Information Collection Notice

AGENCY: Department of State.

ACTION: 30-Day notice of proposed information collection (OMB 1405-0091): DS-117, Application to determine returning resident status (Formerly DSP-117).

SUMMARY: The Department of State has submitted the following information collection request to the Office of Management and Budget (OMB) approval in accordance with the Paperwork Reduction Act of 1995. Comments should be submitted to OMB within 30 days of the publication of this notice.

The following summarizes the information collection proposal submitted to OMB:

Type of Request: Extension of Currently Approved Collection Originating Office: Bureau of Consular Affairs, Office of Visa Services (CA/VO).

Title of Information Collection: Application to Determine Returning Resident Status.

Frequency: Once.

Form Number: DS-117 (formerly DSP-117).

Respondents: All applicants for returning resident status.

Estimated Number of Respondents: 1,000.

Average Hours Per Response: 0.5 hours.

Total Estimated Burden: 500 hours.

Public comments are being solicited to permit the agency to:

• Evaluate whether the proposed information collection is necessary for the proper performance of the functions of the agency, including whether the information will have practical utility.

• Evaluate the accuracy of the agency's estimate of the burden of the proposed collection, including the validity of the methodology and assumptions used.

• Enhance the quality, utility, and clarity of the information to be collected.

• Minimize the reporting burden on those who are to respond, including through the use of automated collection techniques or other forms of technology.

FOR ADDITIONAL INFORMATION CONTACT: Copies of the proposed information collection and supporting documents may be obtained from Eric Cohan, 2401 E ST NW., RM L-703, U.S. Department of State, Washington, DC 20520, (202) 663-1164. Public comments and questions should be directed to the State Department Desk Officer, Office of Information and Regulatory Affairs, Office of Management and Budget (OMB), Washington, DC 20530, (202) 395-5871.

Dated: March 5, 2001.
George Lannon,
Deputy Assistant, Secretary of State for Visa Services, Bureau of Consular Affairs, U.S. Department of State.

[FR Doc. 01-8420 Filed 4-4-01; 8:45 am]

BILLING CODE 4710-06-P